ENVIRONMENTAL PROTECTION AGENCY

[FRL 9936-15-OA]

Notification of a Public Teleconference of the Clean Air Scientific Advisory Committee Secondary National Ambient Air Quality Standards Review Panel for Oxides of Nitrogen and Sulfur

AGENCY: Environmental Protection Agency (EPA).

ACTION: Notice.

SUMMARY: The Environmental Protection Agency (EPA) Science Advisory Board (SAB) Staff Office announces a public teleconference of the Clean Air Scientific Advisory Committee (CASAC) Secondary National Ambient Air Quality Standards (NAAQS) Review Panel for Oxides of Nitrogen and Sulfur to peer review EPA's Integrated Review Plan (IRP) for the Secondary (welfare-based) National Ambient Air Quality Standards for Oxides of Nitrogen and Oxides of Sulfur.

DATES: The CASAC Secondary NAAQS Review Panel for Oxides of Nitrogen and Sulfur will hold a teleconference on Tuesday December 1, 2015 from 1:00 p.m. to 5:00 p.m. (Eastern Standard Time).

Location: The public teleconference will take place by telephone only.

FOR FURTHER INFORMATION CONTACT: Any member of the public wishing to obtain information concerning the public meeting may contact Dr. Sue Shallal, Designated Federal Officer (DFO), EPA Science Advisory Board Staff Office (1400R), U.S. Environmental Protection Agency, 1200 Pennsylvania Avenue NW., Washington, DC 20460; by telephone/voice mail at (202) 564-2057 or at shallal.suhair@epa.gov. General information about the CASAC, as well as any updates concerning the teleconference announced in this notice, may be found on the EPA Web site at http://www.epa.gov/casac.

SUPPLEMENTARY INFORMATION: The CASAC was established pursuant to the Clean Air Act (CAA) Amendments of 1977, codified at 42 U.S.C. 7409(d)(2), in part to review air quality criteria and NAAQS and recommend any new NAAQS and revisions of existing criteria and NAAQS as may be appropriate. The CASAC is a Federal Advisory Committee chartered under the Federal Advisory Committee Act (FACA), 5 U.S.C., App. 2. Section 109(d)(1) of the CAA requires that the Agency periodically review and revise, as appropriate, the air quality criteria and the NAAQS for the six “criteria” air pollutants, including oxides of nitrogen and oxides of sulfur. EPA is currently reviewing the secondary (welfare-based) ambient air quality standards for oxides of nitrogen and sulfur and has requested CASAC advice. Accordingly, the SAB Staff Office solicited nominations for the CASAC Secondary NAAQS Review Panel for Oxides of Nitrogen and Sulfur on March 27, 2014 (79 FR 17147-17149). Membership of the Panel is listed at http://yosemite.epa.gov/sab/sabpeople.nsf/WebCommitteesSubcommittees/Secondary%20NAAQS%20Review%20Panel%20for%20Oxides%20of%20Nitrogen%20and%20Sulfur. EPA will develop several documents in support of its review of the secondary (welfare-based) NAAQS for oxides of nitrogen and sulfur, drafts of which will be subject to review by the CASAC panel. These documents include the Integrated Review Plan (IRP) for the secondary NAAQS for oxides of nitrogen and sulfur, the Integrated Science Assessment (ISA) for Oxides of Nitrogen and Sulfur—Ecological Criteria; a Risk and Exposure Assessment (REA), as warranted; and the Policy Assessment (PA).

Pursuant to FACA and EPA policy, notice is hereby given that the CASAC Secondary National Ambient Air Quality Standards Review Panel for Oxides of Nitrogen and Sulfur will hold a public teleconference to peer review EPA's Integrated Review Plan (IRP) for the Secondary (welfare-based) National Ambient Air Quality Standards for Oxides of Nitrogen and Oxides of Sulfur. The CASAC Panel will comply with the provisions of FACA and all appropriate SAB Staff Office procedural policies.

Technical Contacts: Any technical questions concerning the Integrated Review Plan (IRP) for the Secondary (welfare-based) National Ambient Air Quality Standards for Oxides of Nitrogen and Oxides of Sulfur should be directed to Ms. Ginger Tennant (tennant.ginger@epa.gov), EPA Office Air Quality Planning and Standards.

Availability of Meeting Materials: Prior to the teleconference, the review documents, agenda and other materials will be accessible through the calendar link on the blue navigation bar at http://www.epa.gov/casac/.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to EPA. Members of the public can submit comments for a federal advisory committee to consider as it develops advice for EPA. Interested members of the public may submit relevant written or oral information on the topic of this advisory activity, and/or the group conducting the activity, for the CASAC to consider during the advisory process. Input from the public to the CASAC will have the most impact if it provides specific scientific or technical information or analysis for CASAC panels to consider or if it relates to the clarity or accuracy of the technical information. Members of the public wishing to provide comment should contact the DFO directly.

Oral Statements: In general, individuals or groups requesting an oral presentation at a public teleconference will be limited to three minutes. Each person making an oral statement should consider providing written comments as well as their oral statement so that the points presented orally can be expanded upon in writing. Interested parties should contact Dr. Sue Shallal, DFO, in writing (preferably via email) at the contact information noted above by November 17, 2015 to be placed on the list of public speakers.

Written Statements: Written statements should be supplied to the DFO via email at the contact information noted above by November 17, 2015 so that the information may be made available to the Panel members for their consideration. It is the SAB Staff Office general policy to post written comments on the Web page for the advisory meeting or teleconference. Submitters are requested to provide an unsigned version of each document because the SAB Staff Office does not publish documents with signatures on its Web sites. Members of the public should be aware that their personal contact information, if included in any written comments, may be posted to the CASAC Web site. Copyrighted material will not be posted without explicit permission of the copyright holder.

Accessibility: For information on access or services for individuals with disabilities, please contact Dr. Sue Shallal at the contact information provided above. To request accommodation of a disability, please contact Dr. Shallal preferably at least ten days prior to the teleconference to give EPA as much time as possible to process your request.

Dated: October 15, 2015.
Thomas H. Brennan,
Deputy Director, EPA Science Advisory Staff Office.

[FR Doc. 2015-27160 Filed 10-23-15; 8:45 am]

BILLING CODE 6560-50-P